DEPARTMENT OF THE INTERIOR

National Park Service

[NPS-WASO-NRNHL-22998; PPWOCRADI0, PCU00RP14.R50000]

National Register of Historic Places; Notification of Pending Nominations and Related Actions

AGENCY: National Park Service, Interior.

ACTION: Notice.

SUMMARY: The National Park Service is soliciting comments on the significance of properties nominated before February 18, 2017, for listing or related actions in the National Register of Historic Places.

DATES: Comments should be submitted by March 30, 2017.

ADDRESSES: Comments may be sent via U.S. Postal Service to the National Register of Historic Places, National Park Service, 1849 C St. NW., MS 2280, Washington, DC 20240; by all other carriers, National Register of Historic Places, National Park Service, 1201 Eye St. NW., 8th floor, Washington, DC 20005; or by fax, 202-371-6447.

SUPPLEMENTARY INFORMATION: The properties listed in this notice are being considered for listing or related actions in the National Register of Historic Places. Nominations for their consideration were received by the National Park Service before February 18, 2017. Pursuant to section 60.13 of 36 CFR part 60, written comments are being accepted concerning the significance of the nominated properties under the National Register criteria for evaluation.

Before including your address, phone number, email address, or other personal identifying information in your comment, you should be aware that your entire comment—including your personal identifying information—may be made publicly available at any time. While you can ask us in your comment to withhold your personal identifying information from public review, we cannot guarantee that we will be able to do so.

Nominations submitted by State Historic Preservation Officers:

COLORADO

Denver County

Our Lady of Mount Carmel Church, 3517-3549 Navajo St., Denver, SG100000820

GEORGIA

Baldwin County

Rose Hill, 1534 Irwinton Rd., Milledgeville, SG100000821

MASSACHUSETTS

Essex County

Briggs Carriage Company, 14 & 20 Cedar St., Amesbury, SG100000822

MISSOURI

Jackson County

Quality Hill Center Historic District, 817, 905, 929 Jefferson St. & 910 Pennsylvania Ave., Kansas City, SG100000824

Johnson County

Holden and Pine Streets Commercial Historic District, Roughly bounded by Maynard, N. College, E. Gay, W. Market, Marshall & Railroad Sts. & N. Washington Ave., Warrensburg, SG100000825

NEW JERSEY

Mercer County

Trenton Central Office of the Bell Telephone Company, 214-218 E. State St., Trenton, SG100000826

Trenton Watch Company Building—Circle F Manufacturing Company Building, 720 Monmouth St., Trenton, SG100000827

NEW MEXICO

Santa Fe County

Meem, John Gaw and Faith Bemis, House, 3707 Old Santa Fe Trail, Santa Fe, SG100000828

Nominations submitted by Federal Preservation Officers:

NEW YORK

New York County

Statue of Liberty Enlightening the World, Liberty Island, New York, SG100000829

The New York State Historic Preservation Office reviewed the nomination and responded to the Federal Preservation Officer within 45 days of receipt of the nomination and objects to the Period of Significance and the area of significance of the nominated property. The National Register of Historic Places will address the objection in a subsequent Federal Register notice.

The New Jersey State Historic Preservation Office reviewed the nomination and responded to the Federal Preservation Officer within 45 days of receipt of the nomination and objects to the boundary of the nominated property. The National Register of Historic Places will address the objection in a subsequent Federal Register notice.

An additional documentation has been received for the following resource(s):

MINNESOTA

Meeker County

Litchfield Opera House, 136 N. Marshall Ave., Litchfield, AD84000019

Authority: 60.13 of 36 CFR 60.

Dated: February 23, 2017.
Julie H. Ernstein,
Acting Chief, National Register of Historic Places/National Historic Landmarks Program.

[FR Doc. 2017-05072 Filed 3-14-17; 8:45 am]

BILLING CODE 4312-52-P